DEPARTMENT OF HOMELAND SECURITY

Coast Guard

33 CFR Part 117

[Docket No. USCG-2018-0906]

Drawbridge Operation Regulation; Bonfouca Bayou, Slidell, LA

AGENCY: Coast Guard, DHS.

ACTION: Notice of deviation from drawbridge regulation.

SUMMARY: The Coast Guard has issued a temporary deviation from the operating schedule that governs the State Route 433 Bridge across Bonfouca Bayou, mile 7.0, at Slidell, St. Tammany Parish, Louisiana. This deviation is necessary to perform maintenance. This deviation allows the bridge to remain in the closed-to-navigation position during nighttime hours for approximately 42 days.

DATES: This deviation is effective from 6 p.m. on October 27, 2018, through 6 a.m. on December 7, 2018.

ADDRESSES: The docket for this deviation, USCG-2018-0906 is available at http://www.regulations.gov. Type the docket number in the “SEARCH” box and click “SEARCH.” Click on Open Docket Folder on the line associated with this deviation.

FOR FURTHER INFORMATION CONTACT: If you have questions on this temporary deviation, call or email Ms. Giselle T. MacDonald, Bridge Administration Branch, Coast Guard, telephone (504) 671-2128, email Giselle.T.MacDonald@uscg.mil.

SUPPLEMENTARY INFORMATION: The Louisiana Department of Transportation and Development (LADOTD) requested a temporary deviation from the operating schedule of the State Route 433 Bridge across Bonfouca Bayou, mile 7.0, at Slidell, St. Tammany Parish, Louisiana. This deviation is necessary to accommodate the removal and replacement of the open grid steel deck on the movable section of the swing bridge, which will take place seven days a week during nighttime hours. The vertical clearance of the bridge is 8 feet above mean high water (MHW) in the closed-to-navigation position and unlimited in the open-to-navigation position. There is 125 feet of fender to fender horizontal clearance. The bridge currently operates under 33 CFR 117.433.

This deviation is effective from 6 p.m. on Saturday, October 27, 2018, through 6 a.m. on Friday, December 7, 2018. During the deviation period, the bridge will be closed-to-navigation from 6 p.m. to 6 a.m., Monday through Friday, and from 6 p.m. to 9 a.m. on Saturday and Sunday, including holidays. At all other times, the bridge will operate in accordance with 33 CFR 117.433.

During the nighttime repair periods when the bridge is in the closed-to-navigation position, vessels will not be allowed to pass through the bridge and the bridge will not be able to open for emergencies. Navigation on the waterway consists mainly of recreational craft, with some tugs with tows. There is no alternative route. The Coast Guard will inform the users of the waterways through our Local and Broadcast Notices to Mariners of the change in operating schedule for the bridge so that vessel operators can arrange their transits to minimize any impact caused by the temporary deviation.

In accordance with 33 CFR 117.35, the drawbridge must return to its regular operating schedule immediately at the end of the effective period of this temporary deviation. This deviation from the operating regulations is authorized under 33 CFR 117.35.

Dated: October 16, 2018.
Douglas A. Blakemore,
Bridge Administrator, U.S. Coast Guard Eighth District.

[FR Doc. 2018-23029 Filed 10-22-18; 8:45 am]

BILLING CODE 9110-04-P